DEPARTMENT OF TRANSPORTATION

Federal Aviation Administration

14 CFR Part 39

[Docket No. 2000-NM-200-AD; Amendment 39-12208; AD 2001-09-03]

RIN 2120-AA64

Airworthiness Directives; Airbus Model A330 Series Airplanes

AGENCY: Federal Aviation Administration, DOT.

ACTION: Final rule; request for comments.

SUMMARY: This amendment adopts a new airworthiness directive (AD) that is applicable to certain Model A330 series airplanes. This action requires repetitive inspections of the spars, rib, and stringers in the vertical stabilizer spar box for failure of the bonds to the skin, and repair, if necessary. It also requires modification of the vertical stabilizer spar box by installation of fasteners to reinforce the bonds to the skin, which terminates the repetitive inspections. This action is prompted by issuance of mandatory continuing airworthiness information. This action is necessary to prevent failure of the bonds of the vertical stabilizer spar box to the skin, which could lead to reduced structural integrity of the spar box. It is intended to address the identified unsafe condition.

DATES: Effective May 17, 2001.

The incorporation by reference of certain publications listed in the regulations is approved by the Director of the Federal Register as of May 17, 2001.

Comments for inclusion in the Rules Docket must be received on or before June 1, 2001.

ADDRESSES: Submit comments in triplicate to the Federal Aviation Administration (FAA), Transport Airplane Directorate, ANM-114, Attention: Rules Docket Number 2000-NM-200-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-200-AD in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, ANM-116, International Branch, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, notified the FAA that an unsafe condition may exist on certain Airbus Model A330 series airplanes. The DGAC advises that there have been findings of localized failure of bonding of the spars, rib, and stringers to the skin on several vertical stabilizer spar boxes. This failure results from contamination of the bonding surface during the production process. This condition, if not corrected, could result in failure of the bonds of the vertical stabilizer spar box to the skin, which could lead to reduced structural integrity of the spar box.

Explanation of Relevant Service Information

Airbus has issued two service bulletins pertinent to this unsafe condition. Airbus Service Bulletin A330-55A3025, Revision 01, dated September 15, 2000, describes procedures for initial and repetitive ultrasonic inspections of the spars, rib, and stringers of the vertical stabilizer spar box for failure of the bonds to the skin; and for repair of localized areas of this debonding.

Airbus Service Bulletin A330-55A3026, dated June 23, 2000, describes procedures for installation of fasteners to reinforce those areas which are susceptible to failure of the bond between the spars, rib, and stringers of the vertical stabilizer spar box and the skin. Accomplishment of the installation eliminates the need for the repetitive inspections.

Accomplishment of the actions specified in these service bulletins is intended to adequately address the identified unsafe condition. The DGAC classified these service bulletins as mandatory and issued French airworthiness directive 2000-427-126(B), dated October 4, 2000, in order to assure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Proposed Rule

Since an unsafe condition has been identified that is likely to exist or develop on other airplanes of the same type design that may be registered in the United States at some time in the future, this AD is being issued to prevent failure of the bonds of the vertical stabilizer spar box to the skin, resulting in reduced structural integrity of the spar box. This AD requires accomplishment of the actions specified in the service bulletins described previously.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would take approximately 2 to 70 work hours per airplane, depending on its serial number, to accomplish the required inspection, at an average labor rate of $60 per work hour. Based on these figures, the cost impact of the inspection is estimated to be between $120 and $4,200 per airplane, per inspection cycle.

In addition, it would take approximately 20 to 822 work hours per airplane, depending on its serial number, to accomplish the required terminating action at an average labor rate of $60 per work hour. Required parts would be provided by the manufacturer at no cost to operators. Based on these figures, the cost impact of the terminating action is estimated to be between $1,200 to $49,320 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the rule that might suggest a need to modify the rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-2000-AD.” The postcard will be date stamped and returned to the commenter.

Regulatory Impact

The regulations adopted herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action, and it is contained in the Rules Docket. A copy of it may be obtained by contacting the Rules Docket at the location provided under the caption ADDRESSES.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-09-03 Airbus Industrie: Amendment 39-12208. Docket 2000-NM-200-AD.

Applicability: Model A330 series airplanes, certificated in any category; with serial numbers as listed in Airbus Service Bulletin A330-55A3026, dated June 23, 2000, or A330-55A3025, Revision 01, dated September 15, 2000.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent failure of the bonds of the spars, the rib, and the stringers of the vertical stabilizer spar box to the skin, which could lead to reduction in the structural integrity of the spar box, accomplish the following:

Inspections

(a) Within 650 flight cycles from the previous inspection performed prior to the effective date of this AD, in accordance with Airbus All Operators Telex (AOT) A330-55A3025, dated April 19, 2000, or 60 days after the effective date of this AD, whichever occurs later: Perform an ultrasonic inspection of the spars, the rib, and the stringers of the vertical stabilizer spar box for failure of the bonds to the skin, in accordance with Airbus Service Bulletin A330-55A3025, Revision 01, dated September 15, 2000. Repeat the ultrasonic inspection at intervals not to exceed 650 flight cycles until the accomplishment of paragraph (c) of this AD.

Note 2: The ultrasonic inspection need not include those areas of the spars, the rib, and the stringers of the vertical stabilizer spar box which have previously been repaired or modified.

Repairs

(b) Perform applicable repairs, as shown in Table 1, as follows:

Table 1.—Repairs
If, during any inspection required by paragraph (a)— | Then—
(1) No failure of the bonds is detected | No repair is required.
(2) A single area of failed bonding is detected, and it is smaller than 300 mm ² | No repair is required.
(3) A single area of failed bonding is detected, and it is at least 300 mm ² but less than 2,000 mm ² | Prior to further flight, perform a local repair per Airbus Service Bulletin A330-55A3025, Revision 01, dated September 15, 2000.
(4) A single area of failed bonding is detected, and it is at least 2,000 mm ², or multiple areas of failed bonding are detected at one specific component | Prior to further flight, perform a repair per Airbus Service Bulletin A330-55A3025, Revision 01, dated September 15, 2000.

Terminating Action

(c) Within 5 years of the date of manufacture of the airplane: Install fasteners to the spars, the rib, and the stringers of the vertical stabilizer spar box, in accordance with Airbus Service Bulletin A330-55A3026, dated June 23, 2000. Accomplishment of the installation terminates the repetitive inspection required by paragraph (a) of this AD.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the Manager, International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Airbus Service Bulletin A330-55A3025, Revision 01, dated September 15, 2000, and Airbus Service Bulletin A330-55A3026, dated June 23, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-427-126(B), dated October 4, 2000.

Effective Date

(g) This amendment becomes effective on May 17, 2001.

Issued in Renton, Washington, on April 20, 2001.
Donald L. Riggin,
Acting Manager, Transport Airplane Directorate, Aircraft Certification Service.

[FR Doc. 01-10464 Filed 5-1-01; 8:45 am]

BILLING CODE 4910-13-P